DEPARTMENT OF ENERGY

Federal Energy Regulatory Commission

[Docket No. RP04-372-000]

Viking Gas Transmission Company; Notice of Proposed Changes in FERC Gas Tariff

July 8, 2004.

Take notice that on July 1, 2004, Viking Gas Transmission Company (Viking) tendered for filing to be part of Viking's FERC Gas Tariff, First Revised Volume No. 1, the following tariff sheets proposed to become effective August 1, 2004:

Third Revised Sheet No. 129

Fifth Revised Sheet No. 130

Viking is proposing to add Article IV to the form of Operational Balancing Agreement for use at delivery points (OBA) which will set forth the Daily Demand Quantity elected by the Balancing Party for use under, and as set forth in, Rate Schedule LMS.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E4-1558 Filed 7-13-04; 8:45 am]

BILLING CODE 6717-01-P